DEPARTMENT OF AGRICULTURE

Animal and Plant Health Inspection Service

9 CFR Part 94

[Docket No. 99-032-2]

Importation of Cooked Meat and Meat Products

AGENCY: Animal and Plant Health Inspection Service, USDA.

ACTION: Final rule.

SUMMARY: We are amending the regulations governing the importation of certain animals, meat, and other animal products to allow meat cooked in plastic in processing establishments located in regions where rinderpest or foot-and-mouth disease exists to be further processed after cooking and before importation. Additionally, we are allowing the pink juice test to be used in determining whether ground meat cooked in such establishments has been adequately cooked. These amendments will provide foreign meat processing establishments with additional processing options while continuing to protect against the introduction of rinderpest and foot-and-mouth disease into the United States.

EFFECTIVE DATE: May 2, 2003.

FOR FURTHER INFORMATION CONTACT: Dr. Masoud Malik, Senior Staff Veterinarian, Products Program, National Center for Import and Export, VS, APHIS, 4700 River Road Unit 40, Riverdale, MD 20737-1231; (301) 734-3277.

SUPPLEMENTARY INFORMATION:

Background

The regulations in 9 CFR part 94 (referred to below as the regulations) govern the importation of specified animals and animal products to prevent the introduction into the United States of various animal diseases, including rinderpest, foot-and-mouth disease (FMD), bovine spongiform encephalopathy, swine vesicular disease, hog cholera, and African swine fever. These are dangerous and destructive communicable diseases of ruminants and swine.

Under § 94.4 of the regulations, the Animal and Plant Health Inspection Service (APHIS) prohibits the importation of cured and cooked meat from regions where rinderpest or FMD exists unless the cured or cooked meat fulfills the conditions prescribed in that section.

Meat Cut Into Cubes

Section 94.4(b)(8) requires that cooked ruminant or swine meat imported into the United States from regions where rinderpest or FMD exists be inspected at the port of arrival by an inspector of the Food Safety and Inspection Service (FSIS) of the U.S. Department of Agriculture (Department) and be found to be thoroughly cooked. For meat that is cooked in plastic, thoroughness of cooking must be determined either by a temperature indicator device (TID) or by the pink juice test performed on a piece of meat known as an indicator piece. It is important for the FSIS inspector to be able to associate a TID or indicator piece with the plastic tube of cooked meat that it came from. Until now, that has meant that meat from various cooking tubes could not be combined after cooking for further processing at a foreign meat processing establishment before being exported to the United States.

On May 22, 2002, we published a proposed rule in the Federal Register (67 FR 35936-35939, Docket No. 99-032-1) in which we proposed to allow meat cooked in different plastic tubes in a single cycle of cooking to be combined after that cooking for further processing. Additionally, we proposed to allow the pink juice test to be used in determining whether ground meat cooked in foreign meat processing establishments has been adequately cooked.

We solicited comments concerning our proposal for 60 days ending July 22, 2002. We received 16 comments by that date. They were from livestock associations, food processing associations, a State department of agriculture, foreign and domestic meat processors, importers, manufacturers of packaged food products, and a meat science association. Three of the commenters opposed the proposed provisions, two supported the proposal as written, and the rest of the commenters recommended changes to the proposed rule. We discuss the issues raised by the commenters below.

Comments Received

In our proposed rule, we referred to meat that is cooked in the same cooking cycle as being part of the same “shift.” A number of commenters stated that the word “shift” connotes the time worked by personnel, rather than a cooking cycle, and recommended that we replace the word “shift” with “batch.” In this final rule, we are changing our terminology to use “batch,” as recommended by the commenters. In our discussion of the proposed rule in this background information, when we refer to text in the proposed rule that used the term “shift,” we will use the term “batch” instead and follow it with the term “shift” in parentheses.

The regulations in part 94 require that meat cooked in plastic for exportation to the United States from regions where FMD or rinderpest exists be cooked in boiling water or a steam-fed oven. Several commenters stated that technology exists that makes it possible to carry out the required cooking by steam or boiling water in a continuous cooker, rather than in a single batch cooker. The commenters requested that the regulations specifically acknowledge that adequate cooking by steam or boiling water can be done in a continuous cooker and that, if such a continuous cooker is used, a batch be considered a designated period of time in the cooker. One commenter recommended that such a batch be limited to one metric ton of meat.

We agree that a steam-fed or boiling water continuous cooker can be used to cook meat to a temperature that will destroy the FMD and rinderpest agents, and consider a batch to be a unit of meat kept in the cooker for a minimum of 1.75 hours. We are adding language to § 94.4 to clarify that such a continuous cooker may be used. However, we do not consider it necessary to limit the amount of meat that may be cooked in a batch, provided all of the meat is cooked for the minimum required time.

Several commenters requested that APHIS eliminate the requirement in the regulations for any specific cooking method and either allow manufacturers to use alternative heat processing technologies that achieve the necessary time and temperature results, or provide that alternative cooking methods may be approved on a case-by-case basis.

We are making no changes based on this comment. The methods of cooking allowed by the regulations were approved after we determined them to be effective in destroying the FMD and rinderpest agents. Part of the process of determining the efficacy of those cooking methods was to allow members of the public to submit information regarding the effectiveness of the cooking methods. We will consider any requests to allow alternative cooking methods that are submitted to us along with supporting documentation regarding their effectiveness. If it appears the methods can be used to destroy the FMD and rinderpest agents, we will propose to add them to the cooking methods allowed under the regulations and will invite the general public to comment on the proposal. Based on all information we receive, we will determine whether to add such cooking methods to those allowed under the regulations.

Among the requirements we proposed regarding the further processing of meat after cooking was that one tube of cooked meat from each batch (shift) per cooker be randomly selected and that an indicator piece be cut from the cold spot of the tube to serve as the indicator piece for the entire batch (shift).

A number of commenters stated that all of the meat cooked in a particular batch per cooker cannot always be shipped together. The commenters recommended that the regulations allow indicator pieces or TID's to be taken from more than one cooking tube per batch of a cooker, in case the batch is split into more than one shipment. The commenters recommended that the regulations require that unused indicator pieces or TID'S taken from the batch be destroyed once the batch is loaded into a container.

With regard to the use of TID's, we did not specifically refer to them in our proposed provisions because current standard industry practice is not to use TID's. However, as indicated in § 94.4(b)(5), a TID is an acceptable method of confirming that meat cooked in plastic has been cooked to the required temperature. Therefore, in this final rule, § 94.4(b)(6) provides that meat that is further processed after cooking may be accompanied to the United States by either an indicator piece or a TID. With regard to the number of indicator pieces or TID's that may be taken from a batch for shipment to the United States, we are providing in this final rule that indicator pieces or TID's from up to two cooking tubes per batch of a cooker may be selected to accompany shipments of cooked meat to the United States. Following the loading of a batch of cooked meat into a container, any unused indicator pieces or TID's must be destroyed.

Section 94.4(b)(6) of the proposed rule stated that the provisions of that paragraph pertained to meat that is cooked and then cooled before further processing. Several commenters stated that we should not require that the meat be cooled before further processing.

Our reference to cooling before further processing was based on standard industry practice. However, such cooling is not necessary for the destruction of the FMD and rinderpest disease agents. Therefore, in this final rule, § 94.4(b)(6) will not refer to cooling the meat after cooking.

One commenter noted that proposed § 94.4(b)(6)(i) used the wording “tube or plastic container.” The commenter recommended that, since the tubes that are used are made of plastic, it would be sufficient simply to refer to “plastic container.”

Proposed § 94.4(b)(5) stated that meat to be cooked in tubes must be loaded into a flexible or semiflexible cooking tube constructed of plastic or other material approved by the U.S. Food and Drug Administration. The intent was to require that a tube be used, but not necessarily that the tube be made of plastic. Therefore, in this final rule, § 94.4(b)(6)(i) refers to the tube required under § 94.4(b)(5), and not to a plastic container. For the same reason, we have also changed the heading of paragraph (b)(5) from “Meat cooked in plastic” to “Meat cooked in tubes.”

One commenter noted that proposed § 94.4(b)(6)(i) stated that the certificate accompanying meat that has been further processed must provide the date that the tube from which the indicator piece was taken was selected. The commenter recommended that the term “selected” be changed to “cooked,” to eliminate the option of the indicator piece being collected at any time after cooking but before processing.

We do not consider the precise date that the tube was selected (i.e., whether it was selected the day the meat was cooked or at some later date before the meat is further processed) as important as knowing that the indicator piece or piece containing a TID is, in fact, representative of the processed meat. Therefore, although we are not requiring that the indicator piece or piece containing a TID be selected the date the meat is cooked, we are adding a requirement in this final rule that the certificate include the date the meat was cooked, as well as the date of the selection of the tube. Additionally, we are requiring in § 94.4(b)(6) that the indicator piece or piece containing a TID be selected by random sampling after the meat has been cooked and before the meat undergoes any additional processing (e.g., through cutting, slicing, or dicing), and that, once that processing is completed, the meat may not be processed further before being exported to the United States. We are requiring in § 94.4(b)(8) that the certificate that must accompany the meat to the United States indicate what type of processed product (e.g., diced cubes of a particular size) the indicator piece or piece containing a TID represents.

Several commenters who opposed the proposed rule stated it would increase product handling and exposure to the environment and greatly increase the risk of contamination by pathogens. The commenters expressed further concern that the Department lacks the resources to guarantee that foreign plants are completely and consistently in compliance with Hazard Analysis and Critical Control Points (HACCP) systems and pathogen testing requirements, and stated that some foreign governments have not provided accurate information and documentation regarding sampling procedures.

Even under the regulations prior to this final rule, processing of meat intended for exportation to the United States from regions where FMD or rinderpest exists needed to be carried out in an establishment approved by APHIS and FSIS as one in which the facilities for processing raw meat are separate from the facilities used for processing cooked meat. The additional processing allowed by this final rule must be carried out in accordance with those existing safeguards against contamination. The HACCP system referred to by the commenter is one that FSIS has adopted with regard to human health concerns and does not directly pertain to the regulations in part 94. In addition to a departmental inspection of the establishment prior to approval, periodic inspections are carried out by the Department to ensure compliance with the regulations. If, at any time, the Department determines an establishment is acting contrary to APHIS regulations, APHIS will take corrective action. APHIS relies on foreign governments' inspection and supervision of sampling, recordkeeping, and documentation in the same way that those governments rely on U.S. inspection and supervision of sampling, recordkeeping, and documentation.

Several commenters expressed concern that any products brought into the United States because of the new regulations would be in direct competition with U.S. products.

As we stated in our proposed rule, we do not expect that the adoption of this rule will greatly increase the volume of meat imports, largely because most products that would be imported in accordance with this final rule are already being imported. The effect of this rule will be to alter only the sizes of these products. Further, the Department must operate in accordance with international trade agreements, which provide that restrictions may not be imposed on importations unless there is a science-based justification for imposing such restrictions.

Several commenters questioned why, with homeland security in mind, APHIS proposed a rule that the commenters stated would provide more opportunity for contamination or sabotage during meat processing.

All of the mitigation measures in the animal health regulations governing both domestic and international commerce take a science-based approach to reducing the risk of the introduction or spread of animal diseases. The assessment of unmitigated risk is based on scientific evidence, historical data, and projections of expected movements of animals and animal products. Based on that assessment of risk, measures to mitigate risk are applied where necessary. Safeguards against potential acts of terrorism are being dealt with through procedures other than those set forth in 9 CFR part 94.

Two commenters stated that, although proposed § 94.4(b)(6) referenced only cubes, slices, and anatomical cuts of meat as being eligible for further processing, the provisions should also include ground meat that meets the prescribed conditions.

We are making no changes based on these comments. The proposed rule was initiated based on a request and information specifically addressing the process of cutting larger pieces of meat into cubes prior to their being hard frozen for shipment to the United States. As such, the process is not relevant to cooked ground meat.

One commenter stated that the proposed rule failed to include an analysis of the risk associated with the importation of cooked meat products, the change in risk the proposal would effect, the statistical validity of taking one sample per cooking batch, and the impact thawing and refreezing of samples would have on the pink juice test methodology.

The existing provisions for cooking meat in tubes will not be substantively changed by this final rule. All meat intended for importation under this rule will need to be cooked according to the existing time and temperature requirements. Under the existing provisions, veterinary officials in the exporting country conduct a pink juice test and gauge the temperature of the meat. Meat is then frozen and shipped to the United States. Once it is thawed in this country, U.S. inspectors conduct their own pink juice test. This process will essentially remain the same, except that U.S. inspectors will conduct the pink juice test on an indicator piece, or inspect a piece containing a TID, that was randomly chosen in the exporting country by government representatives of the exporting country. This rule will simply allow for further processing of meat after the cooking. APHIS has historically considered taking one sample per cooking cycle for pink juice testing a valid method of determining the effectiveness of the cooker for that cycle.

Several commenters stated that the economic impact of introducing FMD into the United States would be enormous, and that, even if contaminated imported products were removed from store shelves, the accompanying publicity would severely affect sales of domestic meat and meat products.

We are aware of the potential negative economic effects of the introduction of any serious foreign animal disease into the United States, particularly FMD, and have established the cooking requirements in § 94.4 to mitigate the risk of such diseases being introduced in imported cooked meat. As noted above, all meat intended for importation under this rule will need to be cooked according to the existing time and temperature requirements.

One commenter expressed concern that the pink juice test might not be a reliable method of ensuring proper cooking.

We are making no changes based on this comment. The pink juice test is an existing regulatory provision that we did not propose to change in any way in this rulemaking. Further, the commenter did not provide any specific data to support concerns regarding the efficacy of the pink juice test.

One commenter recommended that officials of foreign governments responsible for randomly selecting tubes of meat for indicator pieces be Department-certified and bonded. We are making no change based on this comment. We currently rely on officials of foreign governments for numerous types of certification without requiring that such individuals be Department-certified and bonded, just as our trading partners do not require that U.S. officials be certified and bonded by their governments.

Ground Meat

Under the regulations prior to this final rule, the only allowable method of determining whether ground meat cooked in tubes had been cooked to the required temperature was by means of a TID, i.e., the use of an indicator piece was not an option for ground meat. Because TID's have not been in common use, this has had the effect of restricting the importation of ground meat cooked in tubes. In our proposed rule, however, we proposed to provide that an indicator piece could be used in lieu of a TID for ground meat if the indicator piece is of sufficient size for a pink juice test to be performed (i.e., 3.8 centimeters or larger in each dimension after cooking). We are making that provision final in this rule. This change may make it more feasible to import ground meat into the United States. Under these circumstances, we consider it necessary to clarify in the regulations that ground meat imported into the United States from regions where FMD exists after being cooked in plastic may include no cardiac muscle. Research has shown that when cardiac tissue that is virus-positive is cooked according to the provisions of § 94.4, the FMD virus can survive the cooking.

Executive Order 12866 and Regulatory Flexibility Act

This rule has been reviewed under Executive Order 12866. The rule has been determined to be not significant for the purposes of Executive Order 12866 and, therefore, has not been reviewed by the Office of Management and Budget.

In this document, we are amending the regulations regarding meat cooked in processing establishments located in regions where rinderpest or FMD exists to allow for further processing of meat after cooking and before importation.

Although these amendments will apply to both ruminant and swine meat, the primary effect of the changes will be on beef. As described previously in this document, the regulations in § 94.4(b)(5) prior to this final rule provided for the importation of ruminant and swine meat cooked under conditions that are largely similar to those provided under this rule. However, only beef and veal have been imported into the United States under § 94.4(b)(5), primarily from Argentina, Brazil, and Uruguay. This rule will allow for quality improvements in these cubed beef and veal products and, therefore, expand their marketability. However, the potential effect on imports of beef and veal and the overall U.S. supply of beef and veal is expected to be small for several reasons.

The cooked ground meat, cubes of meat, slices of meat, and anatomical cuts of meat that have been imported under § 94.4(b)(5) were used primarily in the production of products such as stews and meat pies. This rule will allow for an improvement in the quality of the meat cubes by making them available in more sizes and in a more consistent size and shape. This will allow the products to have expanded marketability. However, cooked cubed beef and veal constitute a small portion of the U.S. beef and veal industry. Imports of prepared beef, including beef cooked in tubes, but not cured, pickled, salted, dried, or made into sausages, account for about 7 percent of all U.S. imports of beef and veal, but less than 1 percent of total U.S. supply.

In addition, imports into the United States of fresh beef and veal from Argentina and Uruguay are no longer occurring, due to FMD outbreaks in those countries. Also, although Argentina, Brazil, and Uruguay are large producers of beef and veal, their total exports are small relative to U.S. supply. The production of beef and veal in these three countries in 2001 was about 80 percent of that of the United States, but their exports of these products to all countries, including the United States, equated to considerably less than 1 percent of the U.S. supply of beef and veal. Thus, the effect on price would be negligible even if these countries were willing and able to redirect all of their beef and veal exports to the production of cooked cubed beef and veal for export to the United States.

Because (1) Similar products are already being imported, (2) the rule will alter only the sizes of these products, and (3) other types of beef and veal imports from Argentina, Brazil, and Uruguay have stopped, we do not expect that the adoption of this rule will greatly increase the volume of beef and veal imports. These amendments may result in a change in the character of the imports, but should not greatly increase the volume of those imports.

Imports of these products will potentially offer competition for domestic producers of ground meat, cubes of meat, slices of meat, and anatomical cuts of meat. Producers of these products are meatpacking plants, both those that slaughter animals directly and those that process purchased meats. In addition, these imports will also compete with domestic ruminant farms that sell to meatpacking facilities.

The Small Business Administration's (SBA) definition of a small entity in the production of cattle is one whose total sales are under $750,000 annually. According to the most recently published U.S. Department of Agriculture “Census of Agriculture,” in 1997, there were 656,181 cattle farms in the United States, of which 99 percent would be considered small entities. However, as was discussed above, we expect that the economic impact on these producers will be minimal.

The SBA's guidelines state that a small producer of beef and veal meat that is in the form of cooked ground meat, cubes, slices, or anatomical cuts is one employing fewer than 500 workers. According to the most recently published U.S. Department of Commerce “Economic Census,” in 1997, 98 percent or 1,297 of the meatpacking establishments processing purchased meats in the United States were small. These small establishments accounted for approximately 78 percent of the total value of shipments of the industry, or approximately $25 billion. Also in 1997, 95 percent of 1,393 animal slaughtering establishments were considered small. These small establishments accounted for approximately 76 percent of the total value of shipments of the industry, or $41.6 billion.

Based on the above information, we do not expect that this rule will have a significant effect on the volume of imports of ruminant and swine meat, including ground meat, cubes of meat, slices of meat, and cuts of meat. Given that the volume of imports will be unlikely to increase substantially, we do not expect that the economic effects of this rule on domestic producers of these products, whether small or large, will be significant.

Under these circumstances, the Administrator of the Animal and Plant Health Inspection Service has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

This final rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: 7 U.S.C. 450, 7701-7772, and 8301-8317; 21 U.S.C. 136 and 136a; 31 U.S.C. 9701; 42 U.S.C. 4331 and 4332; 7 CFR 2.22, 2.80, and 371.4.

2. Section 94.4 is amended as follows:

a. By revising paragraph (b)(5) to read as set forth below.

b. By redesignating paragraphs (b)(6) through (b)(8) as (b)(7) through (b)(9) and adding a new paragraph (b)(6) to read as set forth below.

c. By revising newly redesignated paragraph (b)(8) to read as set forth below.

§ 94.4 Cured or cooked meat from regions where rinderpest or foot-and-mouth disease exists.

* * * * *

(b) * * *

(5) Meat cooked in tubes. Ground meat (which must not include cardiac muscle), cubes of meat, slices of meat, or anatomical cuts of meat (cuts taken from the skeletal muscle tissue) weighing no more than 5 kg (11.05 lbs) must be loaded into a flexible or semiflexible cooking tube constructed of plastic or other material approved by the U.S. Food and Drug Administration. The meat must then be cooked in either boiling water or in a steam-fed oven, in either a batch cooker or a continuous cooker, to reach a minimum internal temperature of 79.4 °C (175 °F) at the cold spot after cooking for at least 1.75 hours. Thoroughness of cooking must be determined by a TID registering the target temperature at the cold spot, or by the pink juice test as follows:

(i) Cubes of meat and ground meat. For cubes of meat, at least 50 percent of meat pieces per tube must be 3.8 cm (1.5 in) or larger in each dimension after cooking or, if more than 50 percent of the cubes of meat pieces per tube are smaller than 3.8 cm (1.5 in) in any dimension after cooking, or if the meat is ground meat, an indicator piece consisting of a single piece of meat of sufficient size for a pink juice test to be performed (3.8 cm (1.5 in) or larger in each dimension after cooking) must have been placed at the cold spot of the tube.

(ii) Slices of meat. At least 50 percent of the slices of meat must be 3.8 cm (1.5 in) or larger in each dimension after cooking or, if more than 50 percent of meat pieces are smaller than 3.8 cm (1.5 in) in any dimension after cooking, an indicator piece of sufficient size for a pink juice test to be performed (3.8 cm (1.5 in) or larger in each dimension after cooking) must be placed at the cold spot of the tube.

(iii) Anatomical cuts of meat. An indicator piece removed from an anatomical cut of meat after cooking must be removed from the center of the cut, farthest from all exterior points and be 3.8 cm (1.5 in) or larger in each dimension for performance of the pink juice test.

(6) Further processing of meat cooked in tubes. Cubes of meat, slices of meat, or anatomical cuts of meat (cuts taken from the skeletal muscle tissue) cooked in tubes in accordance with paragraph (b)(5) of this section may be processed further after cooking if the following provisions are met:

(i) For meat that is cooked and is intended for further processing, up to two tubes from each batch per cooker must be randomly selected by the official of the National Government of the region of origin who is authorized to issue the meat inspection certificate required by § 327.4 of this title. If a TID is not used, a cylindrical or square piece of at least 3.8 cm (1.5 in) in each dimension must be cut from the cold spot of each tube. The cylindrical or square piece will be the indicator piece for the pink juice test. The indicator piece or piece containing the TID must be sealed in plastic or other material approved by the U.S. Food and Drug Administration, and be accompanied by a certificate issued by the official who selected the tube. The certificate must provide the date the tube was cooked and the cooker and batch number, and the date the tube was selected for sampling. Each batch per cooker must have at least one but no more than two indicator pieces or pieces containing TID's. All indicator pieces and pieces containing TID's must be individually sealed, properly labeled, and enclosed together in one sealed box that accompanies the shipment. Any indicator pieces or pieces containing TID's that are not used to accompany a shipment to the United States must be destroyed following loading of the batch into a container; and

(ii) After removing the indicator piece or piece containing a TID, all remaining meat from the same batch may be cut into smaller cubes and sealed in plastic or other material approved by the U.S. Food and Drug Administration. After being processed into smaller cubes once, the meat may not be further processed before shipment to the United States. The cubes of meat and the indicator piece or piece containing a TID must be accompanied to the United States by a certificate as provided in paragraph (b)(8) of this section.

* * * * *

(8) Certificate. (i) The cooked meat must be accompanied by a certificate issued by an official of the National Government of the region of origin who is authorized to issue the foreign meat inspection certificate required under § 327.4 of this title, stating: “This cooked meat produced for export to the United States meets the requirements of title 9, Code of Federal Regulations, § 94.4(b).” Upon arrival of the cooked meat in the United States, the certificate must be presented to an authorized inspector at the port of arrival.

(ii) For cooked meat that is further processed in accordance with paragraph (b)(6) of this section, the certificate must include the following statement, in addition to the certification required under paragraph (b)(8)(i) of this section: “No more than two tubes were randomly selected per batch per cooker for cutting an indicator piece or obtaining a piece containing a TID. The indicator piece or piece containing a TID represents a shipment of (describe form of processed product—e.g., diced cubes of a particular size). A piece containing a TID or a piece 3.8 cm (1.5 in) or larger in each dimension was cut from the cold spot of the tube, and was sealed and marked with the following cooking date, cooker, and batch: _____ and the following date of selection of the tube_____. The total number of indicator pieces or pieces containing TID's enclosed in a sealed box is_____.”

* * * * *

Done in Washington, DC, this 26th day of March 2003.
Peter Fernandez,
Acting Administrator, Animal and Plant Health Inspection Service.

[FR Doc. 03-7847 Filed 4-1-03; 8:45 am]

BILLING CODE 3410-34-P